DEPARTMENT OF HOMELAND SECURITY

Federal Emergency Management Agency

[Docket ID FEMA-2012-0028]

Fee for Services To Support FEMA's Offsite Radiological Emergency Preparedness Program

AGENCY: Federal Emergency Management Agency, DHS.

ACTION: Notice.

SUMMARY: The Federal Emergency Management Agency (FEMA) is establishing a fiscal year (FY) 2014 hourly rate of $57.41 for assessing and collecting fees from Nuclear Regulatory Commission (NRC) licensees for services provided by FEMA personnel for FEMA's Radiological Emergency Preparedness (REP) Program.

DATES: This hourly rate is effective for FY 2014 (October 1, 2013, to September 30, 2014).

FOR FURTHER INFORMATION CONTACT: Andrew Mitchell, Director, Technological Hazards Division, Department of Homeland Security/FEMA, 1800 S. Bell Street—CC826, Mail Stop 3025, Arlington, VA 20598-3025; (202) 646-2618 (phone), or (email) Andrew.Mitchell2@fema.dhs.gov.

SUPPLEMENTARY INFORMATION: As authorized by 42 U.S.C. 5196e, FEMA collects fees from NRC licensees of commercial nuclear power plants to offset the costs of its REP program. The fees that FEMA receives are deposited in the Treasury's REP Program Fund to offset the actual costs by FEMA for its REP Program. The methodology FEMA uses to assess and collect this fee is in FEMA's regulations at Title 44 Code of Federal Regulations (CFR) part 354. FEMA assesses user fees from licensees using a methodology that includes charges for REP Program services provided by both FEMA personnel and FEMA contractors. The fee for each site consists of two distinct components: (1) A site-specific, biennial exercise-related component, and (2) a flat fee component.

As required by regulation, FEMA annually revises the hourly rate used in 44 CFR 354.4(b) for site-specific, biennial exercise-related costs for FEMA personnel to reflect actual budget and cost of living factors. In FY 2014, FEMA will use an hourly rate of $57.41 to calculate the site-specific, biennial exercise-related component of the user fee for services that FEMA personnel provide in 44 CFR 354.4(b). This hourly rate does not apply to: (1) Services that FEMA contractor personnel provide under the site-specific, exercise-related component of the user fee, or (2) services provided by FEMA personnel under the flat fee component of the user fee. FEMA will determine the cost for the site-specific, biennial exercise-related component for FEMA contractor personnel services in accordance with 44 CFR 354.4(c). FEMA will determine the flat fee component of the user fee in accordance with 44 CFR 354.4(d).

Dated: September 12, 2012.
W. Craig Fugate,
Administrator, Federal Emergency Management Agency.

[FR Doc. 2012-23596 Filed 9-24-12; 8:45 am]

BILLING CODE 9110-21-P